DEPARTMENT OF ENERGY

Federal Energy Regulatory Commission

Combined Notice of Filings #1

Take notice that the Commission received the following electric corporate filings:

Docket Numbers: EC15-86-000.

Applicants: Franklin Resources, Inc.

Description: Request for Reauthorization and Extension of Blanket Authorizations Under Section 203 of the Federal Power Act. of Franklin Resources, Inc.

Filed Date: 3/3/15.

Accession Number: 20150303-5254.

Comments Due: 5 p.m. ET 3/24/15.

Docket Numbers: EC15-87-000.

Applicants: JPM Capital Corporation, HA Wind I LLC, The Northwestern Mutual Life Insurance C.

Description: Application for Disposition of Facilities of of The Northwestern Mutual Life Insurance Company, et. al.

Filed Date: 3/6/15.

Accession Number: 20150306-5378.

Comments Due: 5 p.m. ET 3/27/15.

Take notice that the Commission received the following electric rate filings:

Docket Numbers: ER14-2956-005.

Applicants: Hoopeston Wind, LLC.

Description: Compliance filing per 35: Hoopeston mbr authorization compliance filing to be effective 11/1/2014.

Filed Date: 3/9/15.

Accession Number: 20150309-5199.

Comments Due: 5 p.m. ET 3/30/15.

Docket Numbers: ER15-730-001.

Applicants: Midcontinent Independent System Operator, Inc.

Description: Compliance filing per 35: 2015-03-09 Attachment L Compliance Filing to be effective 2/22/2015.

Filed Date: 3/9/15.

Accession Number: 20150309-5200.

Comments Due: 5 p.m. ET 3/30/15.

Docket Numbers: ER15-1194-000.

Applicants: Interstate Power and Light Company, ITC Midwest LLC.

Description: Section 205(d) rate filing per 35.13(a)(2)(iii): IPL Amended Exhibits—Operating and Transmission Agreement to be effective 5/5/2015.

Filed Date: 3/6/15.

Accession Number: 20150306-5342.

Comments Due: 5 p.m. ET 3/27/15.

Docket Numbers: ER15-1195-000.

Applicants: PJM Interconnection, L.L.C.

Description: Section 205(d) rate filing per 35.13(a)(2)(iii): Service Agreement No. 3250; Queue No. W2-091 to be effective 2/5/2015.

Filed Date: 3/6/15.

Accession Number: 20150306-5343.

Comments Due: 5 p.m. ET 3/27/15.

Docket Numbers: ER15-1198-000.

Applicants: FirstEnergy Solutions Corp.

Description: FirstEnergy Solutions Corp. Request for Authorization to Make Wholesale Power Sales to an Affiliate.

Filed Date: 3/6/15.

Accession Number: 20150306-5401.

Comments Due: 5 p.m. ET 3/27/15.

Docket Numbers: ER15-1199-000.

Applicants: FirstEnergy Solutions Corp.

Description: FirstEnergy Solutions Corp. Request for Authorization to Make Wholesale Power Sales to an Affiliate.

Filed Date: 3/9/15.

Accession Number: 20150309-5135.

Comments Due: 5 p.m. ET 3/30/15.

Docket Numbers: ER15-1200-000.

Applicants: FirstEnergy Solutions Corp.

Description: FirstEnergy Solutions Corp. Request for Authorization to Make Wholesale Power Sales to Affiliated Utility.

Filed Date: 3/9/15.

Accession Number: 20150309-5139.

Comments Due: 5 p.m. ET 3/30/15.

Docket Numbers: ER15-1201-000.

Applicants: ISO New England Inc.

Description: ISO New England Resource Termination for Capacity Supply Obligation DFC-ERG.

Filed Date: 3/9/15.

Accession Number: 20150309-5184.

Comments Due: 5 p.m. ET 3/30/15.

Take notice that the Commission received the following electric reliability filings:

Docket Numbers: RR15-8-000.

Applicants: North American Electric Reliability Corporation.

Description: Request of North American Electric Reliability Corporation for Approval of Revisions to NERC's Working Capital and Operating Reserve Policy.

Filed Date: 3/6/15.

Accession Number: 20150306-5391.

Comments Due: 5 p.m. ET 3/27/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 9, 2015.
Nathaniel J. Davis, Sr.,
Deputy Secretary.

[FR Doc. 2015-05865 Filed 3-13-15; 8:45 am]

BILLING CODE 6717-01-P